DEPARTMENT OF VETERANS AFFAIRS

[OMB Control No. 2900-0764]

Agency Information Collection Activity: Survey of Healthcare Experiences of Patients—Dental Care Patient Satisfaction Survey (DPSS)

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before January 21, 2025.

ADDRESSES: Comments must be submitted through www.regulations.gov.

FOR FURTHER INFORMATION CONTACT:

Program-Specific information: Rebecca Mimnall, 202-695-9434, vhacopra@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Survey of Healthcare Experiences of Patients—Dental Care Patient Satisfaction Survey (DPSS) (VA Form 10-10070).

OMB Control Number: 2900-0764. https://www.reginfo.gov/public/do/PRASearch (once at this link, you can enter the OMB Control Number to find the historical versions of this Information Collection).

Type of Review: Revision of a currently approved collection.

Abstract: The mission of the Veterans Health Administration (VHA) is to provide high quality medical and dental care to eligible veterans. Executive Order 12862, dated September 11, 1993, calls for the establishment and implementation of customer service standards, and for agencies to “survey customers to determine the kind and quality of services they want and their level of satisfaction with current services.” The overall purpose of the Dental Care Patient Satisfaction Survey (DPSS) is to systematically obtain information from patients, which can be used to identify problems or complaints that need attention and to improve the quality of dental health care services.

This information will be collected through the DPSS, VA Form 10-10070, and may be submitted either on paper or electronically by Veterans. The DPSS questions have minor changes, to include updates to the Race and Ethnicity data collection fields to reflect current requirements. VHA also is prepared to implement an additional mode of collecting the information utilizing a web-based access system for Veterans to submit the survey responses. Information obtained from this dental survey will be made readily available to VA Central Office (VACO), Veterans Integrated Service Network (VISN), VHA field staff, and stakeholders as part of the Network Performance Report and via the VA Intranet.

This data will be used to demonstrate that VA is providing timely, high quality dental health care services to patients and to measure improvement toward performance goals.

Affected Public: Individuals or Households.

Estimated Annual Burden: 12,600 hours.

Estimated Average Burden per Respondent: 15 minutes.

Frequency of Response: Once annually.

Estimated Number of Respondents: 50,400.

Authority: 44 U.S.C. 3501 et seq.

Maribel Aponte,
VA PRA Clearance Officer, Office of Enterprise and Integration/Data Governance Analytics, Department of Veterans Affairs.

[FR Doc. 2024-27455 Filed 11-21-24; 8:45 am]

BILLING CODE 8320-01-P